SECURITIES AND EXCHANGE COMMISSION

Proposed Collection; Comment Request

Upon Written Request, Copies Available From: Securities and Exchange Commission, Office of Filings and Information Services, Washington, DC 20549.

Extension:

Rule 17a-10; SEC File No. 270-154; OMB Control No. 3235-0122.

Notice is hereby given that pursuant to the Paperwork Reduction Act of 1995 (44 U.S.C. 3501 et seq.) the Securities and Exchange Commission (“Commission”) is soliciting comments on the collection of information summarized below. The Commission plans to submit this existing collection of information to the Office of Management and Budget for extension and approval.

Rule 17a-10 (17 CFR 240.17a-10) requires broker-dealers that are exempted from the filing requirements of paragraph (a) of Rule 17a-5 (17 CFR section 240.17a-5) to file with the Commission an annual statement of income (loss) and balance sheet. It is anticipated that approximately 500 broker-dealers will spend 12 hours per year complying with Rule 17a-10. The total burden is estimated to be approximately 6,000 hours. Each broker-dealer will spend approximately $880 per response ¹ for a total annual expense for all broker-dealers of $440,000.

¹ According to the Securities Industry Association's guide on management and professional earnings, the median salary for a financial reporting manager is $97,500. Assuming that a financial reporting manager works 1800 hours per year, he or she earns $54.17 per hour. Adding in overhead costs of 35%, the hourly rate equals $73.13 per hour, or $877.56 per 12-hour response.

Written comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Direct your written comments to R. Corey Booth, Director/Chief Information Officer, Office of Information Technology, Securities and Exchange Commission, 100 F Street, NE., Washington, DC 20549.

Dated: July 6, 2005.
Jill M. Peterson.
Assistant Secretary.

[FR Doc. E5-3788 Filed 7-15-05; 8:45 am]

BILLING CODE 8010-01-P